POSTAL REGULATORY COMMISSION

39 CFR Parts 3001 and 3025

[Order No. 1171; Docket No. RM2011-13]

Appeals of Post Office Closings

Correction

In rule document 2012-02931, appearing on pages 6676-6681 in the issue of Thursday, February 9, 2012, make the following correction:

§ 3025.3 Notice by the Postal Service. [Corrected]

On page 6680, in the first column, on the thirteenth line from the bottom, the entry titled “§ 3025.3 Notice by the Postal Service” should have appeared in bold print, as a section heading, and is corrected to read as set forth below:

§ 3025.3 Notice by the Postal Service.

[FR Doc. C1-2012-02931 Filed 7-17-13; 8:45 am]

BILLING CODE 1505-01-D